DEPARTMENT OF TRANSPORTATION

Coast Guard

[USCG 2001-10855]

Collection of Information Under Review by Office of Management and Budget (OMB): OMB Control Number 2115-0636

AGENCY: Coast Guard, DOT.

ACTION: Request for comments.

SUMMARY: In compliance with the Paperwork Reduction Act of 1995, the Coast Guard intends to seek the approval of OMB for the renewal of one Information Collection Request (ICR). The ICR concerns the survey of “customers” of the International Ice Patrol run by the Coast Guard. Before submitting the ICR to OMB, the Coast Guard is requesting comments on it.

DATES: Comments must reach the Coast Guard on or before December 31, 2001.

ADDRESSES: You may mail comments to the Docket Management System (DMS) [USCG 2001-10855], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit written comments. Persons submitting comments should include their names and addresses, identify this document [USCG 2001-10855], and give the reason for the comments. Please submit all comments and attachments in an unbound format no larger than 8½ by 11 inches, suitable for copying and electronic filing. Persons wanting acknowledgment of receipt of comments should enclose stamped self-addressed postcards or envelopes.

Information Collection Request

1. Title: Survey of Customers of the International Ice Patrol (IIP) Run by the Coast Guard.

OMB Control Number: 2115-0636.

Summary: The Coast Guard will use the information obtained from direct customers to measure satisfaction with current services and determine whether added services are necessary.

Need: The IIP monitors the extent of danger due to icebergs near the Grand Banks of Newfoundland and warns the maritime community of the danger by broadcasting the southeastern, southern, and southwestern limits of all known ice in two message bulletins and one radiofacsimile chart each day. Executive Order 12862 requires us to evaluate our services and assess our customers' satisfaction.

Respondents: Masters, crewmembers, scientists, or other persons that use the bulletins or charts of the IIP.

Frequency: Annual.

Burden Estimate: The estimated burden is 125 hours a year.

Dated: October 17, 2001.
V.S. Crea,
Director of Information and Technology.

[FR Doc. 01-27477 Filed 10-31-01; 8:45 am]

BILLING CODE 4910-15-U